DEPARTMENT OF ENERGY

Federal Energy Regulatory Commission

[Docket No. RP03-393-003]

Northern Natural Gas Company; Notice of Compliance Filing

June 24, 2003.

Take notice that on June 19, 2003, Northern Natural Gas Company (Northern) tendered for filing to become part of Northern's FERC Gas Tariff, Fifth Revised Volume No. 1, Substitute Seventeenth Revised Sheet No. 54 and Substitute Fourth Revised Sheet No. 54A, to be effective June 1, 2003.

Northern states that the filing is being made in compliance with the Commission's Order dated May 30, 2003, in Docket No. RP03-393-000 and RP03-393-001. Northern states that the compliance filing in Northern's annual PRA fuel proceeding provides additional information and explanations to address issues raised by the parties to the proceeding. In addition, pursuant to the Order, Northern is filing the above-referenced tariff sheets removing certain language required by the Order.

Northern further states that copies of the filing have been mailed to each of its customers and interested State Commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 1, 2003.

Magalie R. Salas,
Secretary.

[FR Doc. 03-16443 Filed 6-27-03; 8:45 am]

BILLING CODE 6717-01-P